DEPARTMENT OF THE INTERIOR

National Park Service

National Register of Historic Places; Notification of Pending Nominations and Related Actions

Nominations for the following properties being considered for listing or related actions in the National Register were received by the National Park Service before March 14, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by April 13, 2009.

J. Paul Loether,
Chief, National Register of Historic Places/National Historic Landmarks Program.

ARIZONA

Maricopa County

Burgess Lateral Historic District, Adjacent to Arcadia Dr. between the Arizona Canal and Lafayette Blvd., between 47th Pl. and 47th St., Phoenix, 09000221

COLORADO

Montrose County

Denver & Rio Grande Western Railroad Caboose No. 0577, Approximately 1 mi. N. by NE. of US 50 at Cimarron, adjacent to Morrow Point Dam Rd., Curecanti National Recreation Ctr., Cimarron, 09000222

Denver & Rio Grande Western Railroad Locomotive No. 278 and Tender, Approximately 1 mi. N. by NE. of US 50 at Cimarron, near Morrow Point Dam Rd., Curecanti National Recreation Center, Cimarron, 09000223

GUAM

Guam County

Ambrosio T. and Ruth S.N. Shimizu House Historical Site, West O'Brien and W. 5th St., Agana, 09000224

ILLINOIS

Cook County

Castlewood Terrace, 819-959 W. Castlewood Terr., Chicago, 09000232

Madison County

State Bank Building, 102 W. Main, Collinsville, 09000233

INDIANA

Hancock County

Lockheed PV-2 Harpoon No. 37396, 3867 N. Aviation Way, Mount Comfort, 09000234

KANSAS

Crawford County

Crawford County Courthouse, (County Courthouses of Kansas MPS) 111 E. Forest, Courthouse Square, Girard, 09000225

St. John's Episcopal Church, SE corner of Buffalo and Summit, Girard, 09000226

Elk County

Elk County Courthouse, (County Courthouses of Kansas MPS) 127 N. Pine, Howard, 09000227

McPherson County

Berquist & Nelson Drugstore Building, 105 N. Main St., Lindsborg, 09000228

Clareen—Peterson Restaurant Building, 113 N. Main St., Lindsborg, 09000229

Holmberg and Johnson Blacksmith Shop, 122 N. Main St., Lindsborg, 09000230

Pratt County

Parachute Building, 40131 Barker Ave., Pratt, 09000231

MASSACHUSETTS

Berkshire County

H.W. Clark Biscuit Company, (North Adams MRA) 179-191 Ashland St., North Adams, 09000235

Bristol County

Codding Farm, The, 217 High St., North Attleborough, 09000236

MONTANA

Meagher County

Parberry Block East, 18-20 E. Main St., White Sulphur Springs, 09000237

NEW YORK

Hamilton County

Lake Pleasant Town Hall, 2885 NY 8, Speculator, 09000238

OKLAHOMA

Garfield County

Enid Terminal Grain Elevators Historic District, (Grain Storage and Processing Facilities in Western Oklahoma MPS) Near E. Willow Rd., N. 16th St., N. 10th St. and N. Van Buren St., Enid, 09000239

OREGON

Deschutes County

Elk Lake Guard Station, Deschutes National Forest, Bend/Fort Rock Rd. 4625.100, Bend, 09000240

UTAH

Salt Lake County

Forest Dale Historic District, Roughly bounded by 700 E., I-80, Commonwealth Ave., and 900 E., Salt Lake City, 09000241

VIRGINIA

Madison County

Hoffman Round Barn, 4864 Wolftown-Hood Rd., Wolftown, 09000242

WEST VIRGINIA

Cabell County

Freeman Estate, 1805 McCoy Rd., Huntington, 09000243

Hancock County

Weels, William E., House, 372 Virginia Terr., Newell, 09000244

Morgan County

Town of Bath Historic District, Roughly Washington and Fairfax Sts. and adjacent blocks, Berkeley Springs, 09000245

[FR Doc. E9-6912 Filed 3-26-09; 8:45 am]

BILLING CODE